ENVIRONMENTAL PROTECTION AGENCY

[FRL-9650-5]

Notification of Public Teleconferences of the Science Advisory Board; Environmental Economics Advisory Committee

AGENCY: Environmental Protection Agency (EPA).

ACTION: Notice.

SUMMARY: The Environmental Protection Agency (EPA) Science Advisory Board (SAB) Staff Office announces public teleconferences of the SAB Environmental Economics Advisory Committee to conduct a review of EPA's Draft White Paper “Retrospective Study of the Costs of EPA Regulations: An Interim Report” (March 2012).

DATES: The public teleconferences will be held on Thursday, April 19, 2012 from 11 a.m. to 3 p.m. (Eastern Daylight Time), Friday, April 20, 2012 from 11 a.m. to 3 p.m. (Eastern Daylight Time) and Thursday, July 12, 2012 from 11 a.m. to 3 p.m. (Eastern Daylight Time).

ADDRESSES: The teleconferences will be conducted by telephone only.

FOR FURTHER INFORMATION CONTACT: Any member of the public who wants further information concerning the meeting may contact Dr. Holly Stallworth, Designated Federal Officer (DFO), EPA Science Advisory Board (1400R), U.S. Environmental Protection Agency, 1300 Pennsylvania Avenue NW, Washington, DC 20460; via telephone/voice mail (202) 564-2073; fax (202) 565-2098; or email at stallworth.holly@epa.gov. General information concerning the SAB can be found on the EPA Web site at http://www.epa.gov/sab.

SUPPLEMENTARY INFORMATION:

Background: Pursuant to the Federal Advisory Committee Act (FACA), as amended, 5 U.S.C., App., notice is hereby given that the SAB Environmental Economics Advisory Committee (EEAC) will hold a public teleconferences to review the EPA draft report “Retrospective Study of the Costs of EPA Regulations: An Interim Report” (March 2012). The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

The U.S. Environmental Protection Agency (EPA) conducts benefit-cost analyses of its rules and regulations. EPA strives to use the best available information to conduct its analyses. Benefit-cost analyses are by definition predictive, relying on ex ante or forecasted information. To improve future benefit-cost analyses, it is important to learn how well EPA's estimates compare with actual (ex post) costs and, if they differ substantially, to understand why. EPA's National Center for Environmental Economics has launched a series of case studies attempting to assess compliance costs retrospectively that, if successful, could help identify reasons for any systematic differences between ex ante and ex post cost estimates. The purpose is to identify potential improvements in the way in which ex ante analyses are performed. EPA's draft “Retrospective Study of the Costs of EPA Regulations: An Interim Report” (March 2012) summarizes the work done to date, describes the methodologies employed thus far and discusses the numerous challenges faced in conducting these analyses. The report may be found at the SAB Web site (www.epa.gov/sab and on the EPA Web site at http://yosemite.epa.gov/ee/epa/eed.nsf/Web pages/RetroCost.html). EPA has requested the SAB's review of its approach to assessing ex post costs as detailed in its draft paper.

Technical Contacts: Any questions concerning EPA's White Paper should be directed to Dr. Nathalie Simon, NCEE at (202) 566-2347 or simon.nathalie@epa.gov.

Availability of Meeting Materials: A meeting agenda, charge questions, and other materials for the teleconferences will be placed on the SAB Web site at www.epa.gov/sab.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments pertaining to the group conducting this advisory activity, EPA's charge, or meeting materials. Input from the public to the SAB will have the most impact if it consists of comments that provide specific scientific or technical information or analysis for the SAB to consider. Members of the public wishing to provide comment should contact the Designated Federal Officer for the relevant advisory committee directly. Oral Statements: In general, individuals or groups requesting an oral presentation at a public teleconference will be limited to five minutes per speaker. To be placed on the public speaker list for the April 19, 2012 meeting, interested parties should notify Dr. Holly Stallworth, DFO, by email no later than April 12, 2012. To be placed on the public speaker list for the July 12, 2012 teleconference, interested parties should notify Dr. Holly Stallworth by July 5, 2012. Written Statements: Written statements for the April 19, 2012 teleconference should be received in the SAB Staff Office by April 12, 2012 so that the information may be made available to the SAB Panel for its consideration prior to this meeting. Written statements for the July 12, 2012 teleconference should be received by July 5, 2012. Written statements should be supplied to the DFO via email (acceptable file format: Adobe Acrobat PDF, MS Word, WordPerfect, MS PowerPoint, or Rich Text files in IBM-PC/Windows 98/2000/XP format).

Accessibility: For information on access or services for individuals with disabilities, please contact Dr. Stallworth at the phone number or email address noted above, preferably at least ten days prior to the meeting, to give EPA as much time as possible to process your request.

Dated: March 14, 2012.
Vanessa T. Vu,
Director, EPA Science Advisory Board Staff Office.

[FR Doc. 2012-6924 Filed 3-23-12; 8:45 am]

BILLING CODE 6560-50-P